DEPARTMENT OF HOMELAND SECURITY

Coast Guard

[USCG-2005-22837]

Nationwide Automatic Identification System (NAIS); Preparation of Programmatic Environmental Impact Statement

AGENCY: U.S. Coast Guard (USCG or Coast Guard), Department of Homeland Security (DHS).

ACTION: Notice of intent; notice of public meeting; request for comments.

SUMMARY: The Coast Guard announces that it intends to prepare a Programmatic Environmental Impact Statement (PEIS) as part of the environmental planning process for the Nationwide Automatic Identification System (NAIS) project. The NAIS project, a USCG and DHS Level 1 investment and major systems acquisition, was initiated as a component of implementing the Maritime Transportation Security Act of 2002. Implementation of the NAIS, in part, involves installing Automatic Identification System (AIS) equipment and related support systems on and around communications towers or other structures along 95,000 miles of coastline and inland rivers.

The NAIS project is being conducted to provide the USCG with the capability to receive and distribute information from shipboard Automatic Identification System (AIS) equipment in order to enhance Maritime Domain Awareness (MDA). The project will provide detection and identification of vessels carrying AIS equipment approaching or operating in the maritime domain where little or no vessel tracking currently exists.

AIS is an international standard, approved by the International Maritime Organization (IMO), for ship-to-ship, ship-to-shore and shore-to-ship communication of information, including vessel position, speed, course, destination, and other data of critical interest for maritime safety and security. The information provided by this system will support national maritime interests—from the safety of ports through collision avoidance, to the safety of the nation through detection and classification of vessels when they are still thousands of miles offshore.

Publication of this notice begins a scoping process that identifies and determines the scope of environmental issues to be addressed in the PEIS. This notice requests public participation in the scoping process and provides information on how to participate.

DATES: The USCG will hold a public meeting concerning the scope of the PEIS. The public meeting will be held on Thursday, December 22, 2005, at the USCG Headquarters building in Washington, DC. The public meeting will be held from 2 p.m. to 4 p.m. and will be preceded by an open house from 1 p.m. to 2 p.m. The public meeting may end later than the stated time, depending on the number of persons wishing to speak.

Comments and related material must reach the Docket Management Facility by December 23, 2005.

ADDRESSES: The public meeting and open house will be held in room number 2415 of U.S. Coast Guard Headquarters (Transpoint Building), 2100 Second Street SW., Washington, DC 20593.

You may submit comments identified by Coast Guard docket number USCG-2005-22837 to the Docket Management Facility at the U.S. Department of Transportation (DOT). To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov.

FOR FURTHER INFORMATION CONTACT: If you have questions on this notice, please call or e-mail Mr. David Wiskochil, NAIS Project Support Team, at 202-475-3118 or dwiskochil@comdt.uscg.mil, respectively. If you have questions on viewing or submitting material to the docket, please call Ms. Andrea M. Jenkins, Program Manager, Docket Operations, at 202-366-0271.

SUPPLEMENTARY INFORMATION:

Request for Comments

The Coast Guard requests public comments and other relevant information on environmental issues related to the proposed NAIS project. The scheduled public meeting is not the only opportunity you have to comment. In addition to or instead of providing comments at the meeting, you can submit comments to the Docket Management Facility during the public comment period (see DATES). The USCG will consider all comments and material received during the comment period.

All comments received will be posted, without change, to http://dms.dot.gov and will include any personal information you have provided. The USCG has an agreement with the Department of Transportation (DOT) to use the Docket Management Facility. Please see DOT's “Privacy Act” paragraph below.

Submitting comments: If you submit a comment, please include your name and address, identify the docket number for this notice (USCG-2005-22837) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. The USCG will consider all comments received during the comment period.

Viewing comments and documents: To view comments, go to http://dms.dot.gov at any time, click on “Simple Search,” enter the last five digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Meeting and Open House

The Coast Guard invites you to learn about the proposed NAIS project at an informational open house, and to identify and comment on environmental issues related to the proposed program at a public meeting. Your comments will help the Coast Guard identify and refine the scope of the environmental issues to be addressed in the PEIS.

In order to allow everyone a chance to speak at the public meeting, the Coast Guard may limit speaker time, or extend the meeting hours, or both. When you rise to speak, you must identify yourself, and any organization you represent, by name. Your remarks will be recorded or transcribed for inclusion in the public docket.

You may submit written material at the public meeting, either in place of or in addition to speaking. Written material must include your name and address, and will be included in the public docket.

The USCG's public meeting location at USCG Headquarters is wheelchair-accessisble. If you plan to attend the open house or public meeting, and need special assistance such as sign language interpretation or other reasonable accommodation, please notify the Coast Guard (see FOR FURTHER INFORMATION CONTACT) at least 3 business days in advance. Include your contact information as well as information about your specific needs.

Background and Purpose

The Maritime Transportation Security Act (MTSA) of 2002 (46 U.S.C. 70113) directed the Secretary of the Department of Homeland Security to “implement a system to collect, integrate, and analyze information concerning vessels operating on or bound for waters subject to the jurisdiction of the United States.” Furthermore, Congress appropriated funds to the Coast Guard for “the acquisition and installation * * * of the shore-based universal AIS coverage system in ports nationwide.” The Coast Guard will implement such a system in support of MDA through the proposed NAIS project.

AIS is an international standard (International Telecommunications Union Recommendation ITU-R M. 1371-1) for ship-to-ship, ship-to-shore and shore-to-ship communication of information, including vessel position, speed, course, destination and other data of critical interest for maritime safety and security. AIS equipment is required domestically and internationally aboard major commercial vessels. AIS is a communication system that relies upon vessels to properly transmit their position, identification, speed, and other navigational information.

Certain vessels are currently subject to carriage requirements for AIS equipment. Despite the nation's critical homeland security need to track these vessels, USCG does not have the network of receivers and transmitters necessary to capture, display, and use this AIS information except in a few select port areas. The information provided by this system will support all of the nation's maritime interests—from the safety of ports through collision avoidance, to the safety of the nation through detection and classification of vessels when they are still thousands of miles offshore. The NAIS project will provide the United States with the ability to fully utilize the IMO international standard and requirements outlined in MTSA of 2002.

Although mandated by Congress, consideration of the NAIS project includes analysis of the proposed project's natural and human environmental impacts. The Coast Guard is the lead agency for determining the scope of this review, and in this case the Coast Guard has determined that review must include preparation of a PEIS. This notice of intent is required by 40 CFR 1508.22, and briefly describes the proposed action and possible alternatives and our proposed scoping process. You can address any questions about the proposed action, the scoping process, or the PEIS to the Coast Guard NAIS Project Office (see FOR FURTHER INFORMATION CONTACT).

Proposed Action and Alternatives

The Proposed Action to be analyzed in the PEIS is the broad scope of implementation of the NAIS project. The PEIS will provide a general level of analysis of alternatives and environmental impacts because specific implementation sites and methods are not currently known. The PEIS will serve as a top tier environmental analysis of the general project of installing a nationwide AIS-based vessel detection, identification, tracking and communication system. Following completion of the PEIS, the USCG will conduct site-specific environmental analysis coincident with project implementation, once specific sites become known. The following alternatives for establishing shore-based antenna sites (e.g., towers) will be evaluated in the PEIS: Use of existing or currently proposed government sites; Lease of commercial sites; Construction of new sites. The preferred alternative is to implement a combination of the shore-based antenna site alternatives. The PEIS will also discuss the No Action Alternative as required under NEPA.

Scoping Process

Public scoping is an early and open process for identifying and determining the scope of issues to be addressed in the PEIS. Scoping begins with this notice, continues through the public comment period (see DATES), and ends when the Coast Guard has completed the following actions:

• Invites the participation of Federal, State, and local agencies, any affected Indian tribe and other interested persons;

• Determines the actions, alternatives, and impacts described in 40 CFR 1508.25;

• Identifies and eliminates from detailed study those issues that are not significant or that have been covered elsewhere;

• Allocates responsibility for preparing PEIS components;

• Indicates any related environmental assessments or environmental impact statements that are not part of the PEIS;

• Other relevant environmental review and consultation requirements;

• Indicates the relationship between timing of the environmental review and other aspects of the proposed program; and

• At its discretion, exercises the options provided in 40 CFR 1501.7(b).

Once the scoping process is complete, the Coast Guard will prepare a draft PEIS, and will publish a Federal Register notice announcing its public availability. (If you want that notice to be sent to you, please contact the Coast Guard Project Office point of contact identified in FOR FURTHER INFORMATION CONTACT). You will have an opportunity to review and comment on the draft PEIS. Additionally, the Coast Guard anticipates holding a public meeting in May, 2006 in Washington, DC to present the draft PEIS and receive public comments regarding the document. The Coast Guard will consider all comments received and then prepare the final PEIS. As with the draft PEIS, the Coast Guard will announce the availability of the final PEIS and once again give you an opportunity for review and comment.

Summary of the Proposed NAIS Project

The general NAIS concept of operations is to provide AIS functionality in support of all national maritime missions, particularly navigation safety and maritime security. NAIS is expected to consist of a system of AIS receivers, transmitters, transceivers, repeaters and other equipment located on shoreside installations and remote platforms potentially including buoys, offshore platforms, aircraft and spacecraft as needed to receive, distribute, and use the information transmitted by vessels that operate AIS equipment and transmit data to these vessels.

NAIS will send and receive AIS messages, via a very high frequency (VHF) data link, to and from AIS equipped vessels, Aids to Navigation, and search and rescue (SAR) aircraft. Nationwide AIS will leverage several types of platforms to support AIS receive and transmit infrastructure. While some support receive-only capabilities (e.g., satellites, buoys, and aircraft), others may support receive and transmit capabilities (e.g., towers and platforms). AIS message data will be transported between system components over a wide-area network (WAN) and diverse, remote site connectivity (e.g., leased analog circuits, microwave).

NAIS will process (e.g., validate, filter, etc.) and store the data. Some NAIS functions may be implemented by enhancing existing systems. These systems, while not part of NAIS, are included in the context of the systems' operations. Primarily, it is expected that these systems (e.g., Ports and Waterways Safety System [PAWSS], Sector Command Centers [SCC], Maritime Information Safety and Law Enforcement [MISLE], Vessel Traffic Services [VTS]) will provide data processing functions (e.g., vessel tracking correlation, intelligence processing, anomaly detection) and user interfaces necessary to meet all the requirements for fully using AIS data. Some users of NAIS capabilities (e.g., Deepwater assets and other government agencies) may indirectly access AIS data via other systems.

NAIS will complement other surveillance and intelligence systems greatly aiding the essential process of identifying vessels requiring further investigation and action. NAIS information will be displayed in the USCG national maritime COP and shared, along with correlated data and intelligence as appropriate, with other DHS and federal agencies. Unclassified portions of the COP will also be available to local port partners in support of security and safety operations. This information will be invaluable to agencies, such as Customs and Border Patrol (CBP), Immigration and Customs Enforcement (ICE), and the Transportation Security Administration (TSA), as it will provide real-time location data on all major cargo and other commercial vessels in the maritime domain.

Dated: November 9, 2005.
J.P. Currier,
Rear Admiral, United States Coast Guard, Assistant Commandant for Acquisition.

[FR Doc. 05-23233 Filed 11-22-05; 8:45 am]

BILLING CODE 3510-22-P